DEPARTMENT OF THE INTERIOR

Bureau of Indian Affairs

Proclaiming Certain Lands, Auburn School District Property, as an Addition to the Muckleshoot Reservation, Washington

AGENCY: Bureau of Indian Affairs, Interior.

ACTION: Notice of Reservation Proclamation.

SUMMARY: This notice informs the public that the Deputy Assistant Secretary for Policy and Economic Development proclaimed approximately 38.23 acres, more or less, to be added to the Muckleshoot Reservation, Washington.

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This Notice is published in the exercise of authority delegated by the Secretary of the Interior to the Assistant Secretary—Indian Affairs by part 209 of the Departmental Manual, and as assumed by the Deputy Assistant Secretary for Policy and Economic Development.

A proclamation was issued, in accordance with Section 7 of the Act of June 18, 1934 (48 Stat. 986; 25 U.S.C. 467), for the land described below. The land was proclaimed to be an addition to and part of the Muckleshoot Reservation for the exclusive use of Indians on that Reservation who are entitled to reside at the Reservation by enrollment or tribal membership.

Williamette Meridian, King County, Washington

Certain tracts of land being described as Parcel A, Parcel B and Parcel C, and legally described as all being within Section 35, Township 21 North, Range 5 East, W.M., King County, Washington, being more particularly described as follows:

Parcel A: That portion of the northeast quarter of the southwest quarter of Section 35, Township 21 north, Range 5 east W.M., in King County, Washington, lying north of county road; LESS state highway; AND LESS the south 570 feet of the north 600 feet of the west 725 feet; AND LESS the west 50 feet of that portion lying south of the north 600 feet.

Parcel B: The north 600 feet of the west 725 feet of the northeast quarter of the southwest quarter of Section 35, Township 21 north, Range 5 east, W.M., in King County, Washington, EXCEPT the north 30 feet for road;

ALSO the west 50 feet of the that portion of the northeast quarter of the southwest quarter of Section 35, Township 21 north, Range 5 east W.M., in King County, Washington, lying north of State Highway No. 5, as conveyed to the State of Washington by deed recorded under Recording Number 5220280; EXCEPT the north 600 feet thereof.

Parcel C: The west 363 feet of the northwest quarter of the southeast quarter of Section 35, Township 21 north, Range 5 east, W.M., in King County, Washington, lying north of Franklin Road. EXCEPT that portion, if any, lying within the east 957 feet of the northwest quarter of the southeast quarter of said Section 35.

Title to the lands herein described shall be subject to any existing easements for public roads and highways, for public utilities and for railroads and pipelines and any other rights-of-way of record.

Containing an area of 38.23 acres, more or less.

The above-described lands contain a total of 38.23 acres, more or less, which are subject to all valid rights, reservations, rights-of-way, and easements of record.

This proclamation does not affect title to the land described above, nor does it affect any valid existing easements for public roads and highways, public utilities and for railroads and pipelines and any other rights-of-way or reservations of record.

Dated: March 18, 2009.
George T. Skibine,
Deputy Assistant Secretary, for Policy and Economic Development Office of the Assistant Secretary—Indian Affairs.

[FR Doc. E9-7321 Filed 3-31-09; 8:45 am]

BILLING CODE 4310-W7-P